DEPARTMENT OF ENERGY

Bonneville Power Administration

Opportunity for Public Comment; Regarding Bonneville Power Administration's Conservation and Renewables Discount Implementation Manual

AGENCY: Bonneville Power Administration, DOE.

ACTION: Notice of public review of Draft Conservation and Renewables Discount Implementation Manual and Regional Technical Forum Recommendations.

SUMMARY: The purpose of this notice is to announce a public review of the Draft Conservation and Renewables Discount (C&R Discount) Implementation Manual and the supporting Regional Technical Forum (RTF) recommendations/material. Bonneville Power Administration (BPA) is publishing a draft C&R Discount Implementation Manual, for public comment, as a result of the decision in BPA's 2002 Wholesale Power Rate Case (WP-02) to establish guidelines for the C&R Discount Program. After the public comment period, the C&R Discount Implementation Manual will be published in its final version and will be used to implement the C&R Discount Program.

Interested parties can find the Draft C&R Discount Implementation Manual at http://www.bpa.gov/Energy/N/c&r.htm and RTF work products can be found at the Northwest Power Planning Council's web site http://www.nwppc.org/rtf.

DATES: Comments must be submitted on or before November 27, 2000. The number, dates, and locations of the public review meetings have not been determined. These details will be posted on BPA's web page, http://www.bpa.gov/Energy/N/c&r.htm, as soon as they are available.

ADDRESSES: Comments regarding the Draft C&R Discount Implementation Manual can be sent to Mark Johnson—PNG/1, BPA, P.O. Box 3621, Portland, OR, 97208-3621 or e-mailed to him at mejohnson@bpa.gov.

FOR FURTHER INFORMATION CONTACT: Mark Johnson—PNG-1, Bonneville Power Administration, P.O. Box 3621, Portland, OR 97208-3621, e-mail: mejohnson@bpa.gov, Phone: 503-230-7669.

SUPPLEMENTARY INFORMATION: As part of BPA's 2002 Power Rate Proposal, 0.5 mills per kWh was added to the basic rate for Subscription Power Purchases and settlement benefits. This 0.5 mills is referred to as the Conservation and Renewables Discount.

BPA is offering the C&R Discount to customers purchasing under the Priority Firm Power (PF-02), New Resource Firm Power (NR-02), and Residential Load (RL-02) rate schedules. Purchasers of the Slice product and benefits provided as a cash payment in settlement of the Residential Exchange Program will also be eligible for the C&R Discount.

Customers purchasing under the Industrial Firm Power rate (IP-02) will be eligible to the extent that the C&R Discount does not reduce their effective rate below the DSI floor rate. Regional public agency customers with Pre-Subscription contracts with collared pricing provisions may be eligible for the C&R Discount subject to contract provisions.

The amount of the C&R Discount will be a fixed monthly amount based on the customer's forecasted purchases and Residential Exchange Program settlement benefits from BPA under its Subscription contract.

Purchasers accepting the monthly C&R Discount agree to abide by the implementation provisions specified in the C&R Discount Implementation Manual. This notice announces a public review of the Draft C&R Discount Implementation Manual.

The Northwest Power Planning Council (Council) formed a Regional Technical Forum (RTF) to facilitate the development of conservation and renewable resources in the Pacific Northwest and assist BPA in implementing a conservation and renewables discount on BPA's new rates. The RTF was asked, by BPA, to make the following recommendations to BPA to facilitate the operation of the conservation and renewable resources discount program.

• A list of eligible conservation measures and programs, their estimated savings, and the estimated regional power system value associated with those savings.

• A process for updating the list as technology and standard practices change and an appeals process through which customers can demonstrate that different savings and value estimates should apply.

• A set of protocols by which the savings and system value of measures/programs not on the list could be estimated. These would include complex commercial or industrial projects.

• Recommended protocols for measurement and evaluation of savings.

With respect to renewables, the RTF was asked to:

• Develop a list of pre-approved Demonstration (RD&D) activities.

• Develop quality control criteria for direct application renewables and distributed resources that will be credited based on a “deemed” amount of output.

• Develop evaluation criteria to be used on a case-by-case basis to determine whether or not a proposed activity is RD&D.

• Develop criteria for determining what constitutes a “new” facility, as opposed to an expansion or addition to an existing facility.

• When requested by Bonneville, assist in evaluating proposals for which eligibility may be unclear.

The RTF recommendations and the Draft C&R Discount Implementation Manual will be the subject of the public review noticed hereunder. It is BPA's intent to give customers and interested parties the opportunity to comment before publishing final versions of the C&R Discount Manual and BPA's decisions on how to implement the RTF's recommendations.

Issued in Portland, Oregon on September 25, 2000.
Judith A. Johansen,
Administrator and Chief Executive Officer.

[FR Doc. 00-26025 Filed 10-10-00; 8:45 am]

BILLING CODE 6450-01-P